OFFICE OF PERSONNEL MANAGEMENT

5 CFR Part 532

RIN 3206-AN48

Prevailing Rate Systems; Redefinition of Certain Nonappropriated Fund Federal Wage System Wage Areas

AGENCY: U.S. Office of Personnel Management.

ACTION: Final rule.

SUMMARY: This rule amends the geographic boundaries of several nonappropriated fund (NAF) Federal Wage System (FWS) wage areas. Based on consensus recommendations of the Federal Prevailing Rate Advisory Committee (FPRAC), the U.S. Office of Personnel Management (OPM) is defining Lee County, Florida, as an area of application county to the Hillsborough, FL, NAF FWS wage area; Leon County, FL, as an area of application county to the Lowndes, Georgia, NAF FWS wage area; Fulton County, GA, as an area of application county to the Cobb, GA, NAF FWS wage area; and Lane County, Oregon, as an area of application county to the Pierce, Washington, NAF FWS wage area. These changes are necessary because there are NAF FWS employees working in these four counties, and the counties are not currently defined in regulation to NAF wage areas. In addition, OPM is removing Mississippi County, Arkansas, from the wage area definition of the Shelby, Tennessee, NAF FWS wage area because there are no longer NAF FWS employees working in the county.

DATES:

Effective date: This regulation is effective on May 31, 2017.

Applicability date: This change applies on the first day of the first applicable pay period beginning on or after June 30, 2017.

FOR FURTHER INFORMATION CONTACT: Madeline Gonzalez, by telephone at (202) 606-2838 or by email at pay-leave-policy@opm.gov.

SUPPLEMENTARY INFORMATION: On January 12, 2017, OPM issued a proposed rule (82 FR 3677) to define—

• Lee County, Florida, as an area of application county to the Hillsborough, FL, NAF FWS wage area;

• Leon County, FL, as an area of application county to the Lowndes, Georgia, NAF FWS wage area;

• Fulton County, GA, as an area of application county to the Cobb, GA, NAF FWS wage area; and

• Lane County, Oregon, as an area of application county to the Pierce, Washington, NAF FWS wage area.

In addition, the proposed rule removed Mississippi County, AR, from the wage area definition of the Shelby, TN, NAF FWS wage area.

FPRAC, the national labor-management committee responsible for advising OPM on matters concerning the pay of FWS employees, reviewed and recommended this change by consensus. These changes will apply on the first day of the first applicable pay period beginning on or after 30 days following publication of the final regulations.

The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Kathleen M. McGettigan,
Acting Director.

Accordingly, OPM is proposing to amend 5 CFR part 532 as follows:

PART 532—PREVAILING RATE SYSTEMS

1. The authority citation for part 532 continues to read as follows:

Authority: 5 U.S.C. 5343, 5346; § 532.707 also issued under 5 U.S.C. 552.

Appendix D to Subpart B of Part 532—Nonappropriated Fund Wage and Survey Areas

2. Appendix D to subpart B is amended by revising the wage area listing for the Hillsborough, FL; Cobb, GA; Lowndes, GA; Shelby, TN; and Pierce, WA, wage areas to read as follows:

Appendix D to Subpart B—Nonappropriated Fund Wage and Survey Areas

* * * * *
FLORIDA
* * * * *
Hillsborough
Survey Area
Florida:
Hillsborough
Area of Application. Survey area plus:
Florida:
Lee
Pinellas
Polk
* * * * *
GEORGIA
* * * * *
Cobb
Survey Area
Georgia:
Cobb
Area of Application. Survey area plus:
Georgia:
Bartow
De Kalb
Fulton
* * * * *
Lowndes
Survey Area
Georgia:
Lowndes
Area of Application. Survey area plus:
Florida:
Leon
* * * * *
TENNESSEE
Shelby
Survey Area
Tennessee:
Shelby
Area of Application. Survey area plus:
Missouri:
Butler
* * * * *
WASHINGTON
* * * * *
Pierce
Survey Area
Washington:
Pierce
Area of Application. Survey area plus:
Oregon:
Clatsop
Coos
Douglas
Multnomah
Tillamook
Washington:
Clark
Grays Harbor
Lane
* * * * *

[FR Doc. 2017-11232 Filed 5-30-17; 8:45 am]

BILLING CODE 6325-39-P